DEPARTMENT OF LABOR

Generic Solicitation for Grant Applications

ACTION: Notice.

SUMMARY: The Department of Labor, as part of its continuing effort to reduce paperwork and respondent burden conducts a preclearance consultation program to provide the general public and Federal agencies with an opportunity to comment on proposed and/or continuing collection of information in accordance with the Paperwork Reduction Act of 1995 (PRA95) [44 U.S.C. 3506(c)(A)]. This program helps to ensure that requested data can be provided in the desired format, reporting burden (time and financial resources) is minimized, collection instruments are clearly understood, and the impact of collection requirements on respondents can be properly assessed. Currently, the Department of Labor is soliciting comments concerning the proposed new collection for the Generic Solicitation for Grant Applications. A copy of the proposed information collection request (ICR) can be obtained by contacting the office listed below in the addressee section of this notice.

DATES: Written comments must be submitted to the office listed in the address's section below on or before December 16, 2005.

ADDRESSES: Lance Grubb, U.S. Department of Labor, Employment and Training Administration, Room N-465, 200 Constitution Avenue, NW., Washington, DC 20210, phone: 202-693-3151., FAX: 202-693-2857, e-mail: grubb.lance@dol.gov.

SUPPLEMENTARY INFORMATION:

I. Background

The Department is requesting approval for a generic Solicitation for Grant Application (SGA) form for information collection requirements for SGAs that extend beyond what is collected on currently approved standard forms. OMB approval of this generic SGA form will assist the Department to carry out its responsibilities under the Paperwork Reduction Act by accurately accounting for the public burden associated with grant applications through the promotion of a common structure for reporting the information collection requirements contained in DOL's SGAs.

Periodically, the Department of Labor (DOL or the Department) solicits applications for grants through issuing a “Solicitation for Grant Applications” or “SGA.” To ensure that grants are awarded to the applicant best suited to perform the functions of the grant, applicants are generally required to submit a two-part application. The first part of DOL's grant applications consists of submitting the Standard Form 424 (SF-424), “Application for Federal Assistance.” The second part of a grant application usually requires a technical proposal demonstrating the applicant's capabilities in accordance with a statement of work and/or selection criteria.

The information collected in response to solicitations for grant applications has been and will be used by the Department of Labor for awarding grants to the applicants most suited for fulfilling the mission of the grant.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: New collection.

Agency: Department of Labor.

Title: Generic Solicitation for Grant Applications (SGA).

OMB Number: None at this time.

Agency Number: None at this time.

Recordkeeping: Not applicable.

Affected Public: Business or other for-profits; not-for-profit institutions; state, local or tribal governments.

Total Respondents: 5,750.

Estimated Total Burden Hours: 5,750 SGA submissions to DOL per year × 20 hours = 115,000 burden hours.

Total Burden Cost (capital/startup): $0.

Total Burden Cost (operating/maintaining): $0.

Comments submitted in response to this comment request will be summarized and/or included in the request for Office of Management and Budget approval of the information collection request; they will also become a matter of public record.

Dated: October 3, 2005.
Emily Stover DeRocco,
Assistant Secretary Assistant Secretary for Employment and Training.

[FR Doc. 05-20668 Filed 10-14-05; 8:45 am]

BILLING CODE 4510-30-P